COMMISSION ON CIVIL RIGHTS

Notice of Public Meeting of the Rhode Island Advisory Committee; Cancellation

AGENCY: Commission on Civil Rights.

ACTION: Notice; cancellation of meeting.

SUMMARY: The Commission on Civil Rights published a notice in the Federal Register concerning a meeting of the Rhode Island Advisory Committee. The meeting scheduled for Wednesday, March 10, 2021 at 12:00 p.m. (ET) is cancelled. The notice is in the Federal Register of Thursday, January 21, 2021, in FR Doc. 2021-01151, on pages 6293-6294.

FOR FURTHER INFORMATION CONTACT: Evelyn Bohor, (202) 921-2212, ebohor@usccr.gov.

Dated: February 25, 2021.
David Mussatt,
Supervisory Chief, Regional Programs Unit.

[FR Doc. 2021-04276 Filed 3-1-21; 8:45 am]

BILLING CODE P